NATIONAL COMMUNICATIONS SYSTEM

National Security Telecommunications Advisory Committee

AGENCY: National Communications System (NCS).

ACTION: Notice of Meeting.

SUMMARY: A meeting of the President's National Security Telecommunications Advisory Committee will be held on Wednesday. June 6, 2001, from 9 a.m. to 11:30 a.m. The Business Session will be held at the Department of State, Washington, D.C. The agenda is as follows:

• Call to Order/Welcoming Remarks.

• Briefings from three perspectives: National, Department of Defense, and industry, on national security challenges resulting from changing technology and dependence upon privately operated infrastructures.

• National Communications System Manager's Report.

• Industry Executive Subcommittee Report.

• Adjournment.

Due to the potential requirement to discuss classified information in conjunction with the issues listed above, the meeting will be closed to the public in the interest of National Defense.

FOR FURTHER INFORMATION CONTACT: Telephone (703) 607-6215 or write the manager, National Communications System, 701 South Court House Road, Arlington, VA 22204-2198.

Frank McClelland,
Federal Register Liaison Officer, Technology and Programs Division (N2), National Communications System.

[FR Doc. 01-9854 Filed 4-19-01; 8:45 am]

BILLING CODE 5001-08-M